SECURITIES AND EXCHANGE COMMISSION

Sunshine Act Meeting; Additional Item

FEDERAL REGISTER Citation of Previous Announcement: To Be Published.

Previously Announced Time and Date of the Meeting: Friday, January 6, 2017.

Changes in the Meeting: The following matters will also be considered during the 2:30 p.m. Closed Meeting scheduled for Friday, January 6, 2017: Settlement of injunctive actions.

Contact Person for More Information: For further information and to ascertain what, if any, matters have been added, deleted or postponed, please contact the Office of the Secretary at (202) 551-5400.

Dated: December 30, 2016.
Brent J. Fields,
Secretary.

[FR Doc. 2016-32048 Filed 1-3-17; 11:15 am]

BILLING CODE 8011-01-P